DEPARTMENT OF THE INTERIOR

Minerals Management Service

Outer Continental Shelf Official Protraction Diagrams

AGENCY: Minerals Management Service (MMS), Interior.

ACTION: Availability of revised North American Datum of 1983 (NAD 83) Outer Continental Shelf Official Protraction Diagrams.

SUMMARY: Notice is hereby given that effective with this publication, the following NAD 83—based Outer Continental Shelf Official Protraction Diagrams last revised on the date indicated are available for information only, in the Gulf of Mexico OCS Regional Office, New Orleans, Louisiana. Copies are also available for download at http://www.mms.gov/ld/atlantic.htm. The Minerals Management Service in accordance with its authority and responsibility under the Outer Continental Shelf Lands Act is updating and depicting the ambulatory Submerged Lands Act boundary and Limit of “8 (g) Zone” for the entire Continental United States and Alaska, except where fixed under a Supplemental Decree of the United States Supreme Court. This effort is being conducted under a joint project with the NOAA National Ocean Service and the Department of State's Interdepartmental Baseline Committee to develop a new National Baseline for the United States. These diagrams constitute the basic record of the marine cadastre in the geographic area they represent.

Description | Date
NK19-04 (Boston) | 19-JAN-2005
NK19-05 (Cashes Ledge) | 19-JAN-2005
NK19-07 (Providence) | 19-JAN-2005
NK19-08 (Chatham) | 19-JAN-2005

FOR FURTHER INFORMATION CONTACT: Copies of Official Protraction Diagrams are $2.00 each. These may be purchased from the Public Information Unit, Information Services Section, Gulf of Mexico OCS Region, Minerals Management Service, 1201 Elmwood Park Boulevard, New Orleans, Louisiana 70123-2394, telephone (504) 736-2519 or (800) 200-GULF.

SUPPLEMENTARY INFORMATION: Official Protraction Diagrams may be obtained in two digital formats: .gra files for use in ARC/INFO and .pdf files for viewing and printing in Adobe® Acrobat.

Dated: February 16, 2005.
Robert P. Labelle,
Acting Associate Director for Offshore Minerals Management.

[FR Doc. 05-3524 Filed 2-23-05; 8:45 am]

BILLING CODE 4310-MR-P